ENVIRONMENTAL PROTECTION AGENCY

[FRL-6857-6]

Notice of Proposed Settlement Under Section 122(h) of the Comprehensive Environmental Response, Compensation and Liability Act; St. Louis River Site, Duluth, MN

AGENCY: U.S. Environmental Protection Agency.

ACTION: Notice; request for public comment.

SUMMARY: Notice of Settlement for recovery of past costs. In accordance with section 122(i)(1) of the Comprehensive Environmental Response, Compensation and Liability Act of 1980, as amended (CERCLA), notice is hereby given of a proposed administrative settlement under section 122(h) of CERCLA concerning the St. Louis River Superfund Site, Duluth, Minnesota. The Agreement was signed by the Director, Superfund Division, U.S. Environmental Protection Agency, Region 5, (U.S. EPA) on August 3, 2000. Subject to review by the public pursuant to this Notice, the agreement was approved by the United States Department of Justice on July 31, 2000. Below are listed the parties who have executed binding certifications of their consent to participate in the settlement: Domtar, Inc.; Honeywell International, Inc.; and The Interlake Corporation. These parties will pay a total of $833,000 in a settlement payment for past response costs under the agreement subject to the contingency that U.S. EPA may elect not to complete the settlement based on matters brought to its attention during the public comment period established by this Notice. This amount represents approximately ninety percent of past response costs U.S. EPA and the Agency for Toxic Substances and Disease Registry have expended at the St. Louis River Superfund Site as of January 31, 2000.

U.S. EPA is authorized to enter into this agreement under the authority of section 122(h) and 107 of CERCLA. Section 122(h) authorizes settlements with potentially responsible parties for the recovery of past costs expended by the Agency where these claims have not been referred to the U.S. Department of Justice for further action.

U.S. EPA will receive written comments relating to this agreement for thirty days from the date of publication of this notice. The Agency will consider all comments received and may withdraw its consent to the settlement if comments received disclose facts or considerations which indicate that the settlement is inappropriate, improper, or inadequate. U.S. EPA's response to any comments will be available for public inspection at the Superfund Records Center, located at 77 West Jackson Boulevard, Seventh Floor, Chicago, Illinois.

DATES: Comments must be provided on or before September 25, 2000.

ADDRESSES: The proposed settlement and additional background information relating to the settlement are available for public inspection at the Superfund Records Center located at 77 West Jackson Boulevard, Seventh Floor, Chicago, Illinois. A copy of the proposed settlement may be obtained from the Superfund Records Center located at 77 West Jackson Boulevard, Seventh Floor, Chicago, Illinois. Comments should be addressed to Thomas J. Kennedy, Senior Attorney, U.S. Environmental Protection Agency, Region 5, Office of Regional Counsel, 77 West Jackson Boulevard (C-14J), Chicago, Illinois 60604, and should refer to: In the Matter of: St. Louis River Superfund Site in Duluth, Minnesota, and U.S. EPA Docket No. V-W-'00-C-604.

FOR FURTHER INFORMATION CONTACT: Thomas J. Kennedy, U.S. Environmental Protection Agency, Region 5, Office of Regional Counsel, 77 West Jackson Boulevard (C-14J), Chicago, Illinois 60604, (312) 886-0708.

Authority: The Comprehensive Environmental Response, Compensation, and Liability Act of 1980, as amended, 42 U.S.C. 9601-9675.

William E. Muno,
Director, Superfund Division, Region 5.

[FR Doc. 00-21779 Filed 8-24-00; 8:45 am]

BILLING CODE 6560-50-M